DEPARTMENT OF ENERGY

Proposed Agency Information Collection

AGENCY: U.S. Energy Information Administration (EIA), U.S. Department of Energy.

ACTION: Notice and Request for OMB Review and Comment.

SUMMARY: EIA has submitted to the Office of Management and Budget (OMB) for clearance, under the provisions of the Paperwork Reduction Act of 1995, for the natural gas survey forms (OMB-1975-0175). EIA requests a three-year clearance for the following forms:

• EIA 176, “Annual Report of Natural and Supplemental Gas Supply and Disposition,”

• EIA 191, “Monthly and Annual Underground Natural Gas Storage Report,”

• EIA-757, “Natural Gas Processing Plant Survey,”

• EIA 857, “Monthly Report of Natural Gas Purchases and Deliveries to Consumers,”

• EIA-910, “Monthly Natural Gas Marketer Survey,” and

• EIA-912, “Weekly Underground Natural Gas Storage Report.”

The proposed data collection will make minor changes to the forms and instructions to provide clarity. The number of respondents for EIA-191, EIA-857 and EIA-757 has been increased to reflect recent survey frame research which has identified new respondents. Data confidentiality procedures for protecting the identifiability of submitted data remain unchanged for all forms with the exception of a portion of Form EIA-191. EIA is also proposing a change to the published revision policy for Form EIA-912, a Principal Federal Economic Indicator. In addition, EIA is proposing specific changes to several of the forms; these changes are described in detail in the “Supplementary Information” section below.

DATES: Comments regarding this collection must be received on or before November 6, 2014. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the

DOE Desk Officer, Office of Information and Regulatory Affairs, Office of Management and Budget, New Executive Office Building, Room 10102, 735 17th Street NW., Washington, DC 20503, Chad_S_Whiteman@omb.eop.gov. and to

Amy Sweeney, U.S. Energy Information Administration, Mail Stop EI-24, Forrestal Building, 1000 Independence Avenue SW., Washington, DC 20585, Amy.Sweeney@eia.gov.

FOR FURTHER INFORMATION CONTACT: Requests for additional information or copies of any forms and instructions should be directed to Ms. Sweeney at the address listed above. Also, the draft forms and instructions are available on the EIA Web site at http://www.eia.gov/survey/notice/ngdownstreamforms2015.cfm.

SUPPLEMENTARY INFORMATION: This information collection request contains:

(1) OMB No.: 1975-0175.

(2) Information Collection Request Title: “Natural Gas Data Collection Program Package.”

(3) Type of Request: Proposed revision and three-year extension of the natural gas surveys.

(4) Purpose: EIA is proposing the following changes:

(a) Form EIA-176, “Annual Report of Natural and Supplemental Gas Supply and Disposition”

1. Type of Request: Extension, with changes, of a currently approved collection.

2. Purpose: Form EIA-176, “Annual Report of Natural and Supplemental Gas Supply and Disposition,” collects data on natural, synthetic, and other supplemental gas supplies, disposition, and certain revenues by state. The data appear in the EIA publications, Monthly Energy Review, Natural Gas Annual, and Natural Gas Monthly. The proposed changes include:

• In Part 3, EIA is proposing to collect information on the price of compressed natural gas (CNG) for natural gas local distribution companies that sell CNG to the public. This information will provide information on retail prices of CNG. CNG is a growing segment of the natural gas industry that is not represented in EIA's natural gas retail price series.

• In Part 4, EIA is proposing to collect data related to costs associated with already-reported information on natural gas purchased and received at the city gate. EIA collects information on costs associated with purchases at the city gate on a monthly basis on Form EIA-857 for a sample of companies that report on Form EIA-176. However, the monthly city gate purchase information is frequently subject to monthly true-ups and having an annual benchmark for city gate purchase costs is expected to lead to a more accurate depiction of natural gas distributors' cost of natural gas.

• In Part 5, EIA is proposing to collect the capacity of liquefied natural gas (LNG) marine terminals to gain a better understanding of the extent to which these storage assets are able to supply the market during periods of peak natural gas demand.

3. Estimated Number of Survey Respondents: 2,012 respondents.

4. Annual Estimated Number of Total Responses: The annual number of total responses is 2,012.

5. Annual Estimated Number of Burden Hours: The annual estimated burden is 24,144 hours.

6. Annual Estimated Reporting and Recordkeeping Cost Burden: Additional costs to respondents are not anticipated beyond costs associated with response burden hours.

(b) Form EIA-191, “Monthly Underground Gas Storage Report”

1. Type of Request: Extension, with changes, of a currently approved collection.

2. Purpose: Form EIA-191, “Monthly Underground Gas Storage Report,” collects data on the operations of all active underground storage facilities. The data appear in the EIA publications Monthly Energy Review, Natural Gas Annual, and Natural Gas Monthly. EIA is proposing to make the following changes to the form:

• To reduce reporting burden EIA is proposing to discontinue two categories regarding Field Status: “Depleting” and “Other.” EIA will use only two categories, “Active” and “Inactive.” The category “Inactive” is more descriptive and replaces the Field Status category label of “Abandoned.” The “Depleting” and “Other” categories are rarely used by reporting companies and collapsing these categories into “Inactive” will not cause a loss in data utility, as the same data will still be reported, albeit in a single category.

• EIA is proposing to make public reported values for monthly base gas levels reported in Part 4. This information will enhance the utility of the underground storage information already available to the public pertaining to capacity and working gas capacity. Additionally, base gas can indicate another potential source of supply during times of sustained high demand as there have traditionally been some withdrawals of base gas, albeit small amounts, late during the heating season. The current confidentiality protection covering the other information reported in Part 4, including monthly working gas, total gas in storage, and injections and withdrawals into storage, will be retained. EIA will continue to publish, in disaggregated form, information collected in Part 3 of Form EIA-191, including storage field name and type, reservoir name, location, working gas and total storage field capacity, and maximum deliverability. On its Web site, EIA currently releases this information at the field level through its Natural Gas Annual Respondent Query System.

3. Estimated Number of Survey Respondents: There are approximately 135 respondents. This has been increased from the previous clearance to reflect additional storage operators that have been identified via survey frame research. The change results in an increase of total annual responses and total burden hours as stated below.

4. Annual Estimated Number of Total Responses: The annual estimated number of total responses is 1,620.

5. Annual Estimated Number of Burden Hours: The annual estimated burden is 4,212 hours.

6. Annual Estimated Reporting and Recordkeeping Cost Burden: Additional costs to respondents are not anticipated beyond costs associated with response burden hours.

(c) Form EIA-757, “Natural Gas Processing Plant Survey”

1. Type of Request: Extension, with changes, of a currently approved collection.

2. Purpose: Form EIA-757, “Natural Gas Processing Plant Survey,” collects information on the capacity, status, and operations of natural gas processing plants, and monitors constraints of natural gas processing plants during periods of supply disruption in areas affected by an emergency, such as a hurricane. Schedule A of the EIA-757 is collected no more than every three years to collect baseline operating and capacity information from all respondents and Schedule B is activated as needed and collected from a sample of respondents in affected areas as needed. Schedule A was most recently conducted in 2012 and Schedule B was most recently activated in 2012 for Hurricane Isaac with a sample of approximately 20 plants. EIA is proposing to continue the collection of the same data elements on Form EIA-757 Schedules A and B in their present form with the following change:

• EIA is proposing to eliminate two elements from Schedule A, annual average total plant capacity and annual average natural gas flow at plant inlet, as this information will be duplicative of information to be collected on a proposed new survey of natural gas processing plants, Form EIA-915, to be submitted under a separate OMB Control Number.

3. Estimated Number of Survey Respondents: Schedule A: 600; Schedule B: To be determined based on the number of processing plants that are within the proximity of the natural gas supply disruption, historically around 20. Note the total number of respondents in schedule A has been increased from 500 to 600 due to recent research into the number of active natural gas processing plants which has yielded new potential respondents. The change results in an increase of total annual responses and total burden hours as stated below.

4. Annual Estimated Number of Total Responses: Schedule A is used to collect information once every three years. Therefore, the annual estimated number of total responses is 200. The number of respondents for Schedule B varies from year to year, but the most recent activation surveyed approximately 20 respondents.

5. Annual Estimated Number of Burden Hours: The annual estimated burden for Schedule A is 100 hours. Schedule B is estimated to require 1.5 hours for each respondent to complete; the number of respondents varies but the most recent activation surveyed approximately 20 respondents, so the estimated burden is 30 hours.

6. Annual Estimated Reporting and Recordkeeping Cost Burden: Additional costs to respondents are not anticipated beyond costs associated with response burden hours.

(d) Form EIA-857, “Monthly Report of Natural Gas Purchases and Deliveries to Consumers”

1. Type of Request: Extension, with change, of a currently approved collection.

2. Purpose: Form EIA-857, “Monthly Report of Natural Gas Purchases and Deliveries to Consumers,” collects data on the quantity and cost of natural gas delivered to distribution systems and the quantity and revenue of natural gas delivered to end-use consumers by market sector, on a monthly basis by state. The data appear in the EIA publications, Monthly Energy Review, Natural Gas Annual, and Natural Gas Monthly. EIA is proposing the following change:

• EIA is proposing to add a new question to the form that asks whether the reporting company is including any adjustments to prior periods in their current monthly reporting. Reporting companies frequently make adjustments to correct data previously submitted in prior periods that skew the current month's reporting and EIA would like to propose this mechanism to more easily identify this phenomenon and address it proactively with the reporting companies.

3. Estimated Number of Survey Respondents: 320 respondents each month. The number of firms surveyed each month has increased to 320 in order to maintain sufficient coverage of the survey variables collected on EIA-857. The change results in an increase of total annual responses and total burden hours as stated below.

4. Annual Estimated Number of Total Responses: The annual estimated number of total responses is 3,840.

5. Annual Estimated Number of Burden Hours: The annual estimated burden is 13,440 hours.

6. Annual Estimated Reporting and Recordkeeping Cost Burden: Additional costs to respondents are not anticipated beyond costs associated with response burden hours.

(e) Form EIA-910, “Monthly Natural Gas Marketer Survey”

1. Type of Request: Extension of a currently approved collection.

2. Purpose: Form EIA-910, “Monthly Natural Gas Marketer Survey,” collects information on natural gas sales from marketers in selected states that have active customer choice programs. EIA is requesting information on the volume and revenue for natural gas commodity sales and any receipts for distribution charges and taxes associated with the sale of natural gas. EIA is proposing to continue Form EIA-910 in its present form with no changes to the elements collected or geographic coverage.

3. Estimated Number of Survey Respondents: There are approximately 210 respondents each month.

4. Annual Estimated Number of Total Responses: The annual estimated number of total responses is 2,520.

5. Annual Estimated Number of Burden Hours: The annual estimated burden is 5,040 hours.

6. Annual Estimated Reporting and Recordkeeping Cost Burden: Additional costs to respondents are not anticipated beyond costs associated with response burden hours.

(f) Form EIA-912, “Weekly Underground Natural Gas Storage Report”

1. Type of Request: Extension, with changes, of a currently approved collection.

2. Purpose: Form EIA-912, “Weekly Underground Natural Gas Storage Report,” collects information on weekly inventories of natural gas in underground storage facilities and serves as a Principal Federal Economic Indicator. The proposed changes include an additional data element as well as expanded geographic categories for working gas collection and publication in the Lower 48 states:

• Instead of dividing the states into three regions, the East, West and Producing Regions, EIA is proposing to collect data in five regions by further breaking out the current regions. The states currently included in the Producing region will remain unchanged except for the removal of New Mexico. The Producing region will now be referred to as the South Central region. The South Central region will continue to have two subcategories for the different storage technologies prevalent in the region, salt and non-salt facilities. Four additional regions that further break out the current East and West regions will be added in order to enhance the analysis and usability of the data. The new geographic regions are defined in the following table:

Current EIA-912 regions | Proposed EIA-912 regions
Producing Region: Alabama, Arkansas, Kansas, Louisiana, Mississippi, New Mexico, Oklahoma, and Texas. | South Central Region: Alabama, Arkansas, Kansas, Louisiana, Mississippi, Oklahoma, and Texas.
East Region: Connecticut, Delaware, District of Columbia, Florida, Georgia, Illinois, Indiana, Iowa, Kentucky, Massachusetts, Maryland, Maine, Michigan, Missouri, Nebraska, New Hampshire, New Jersey, New York, North Carolina, Ohio, Pennsylvania, Rhode Island, South Carolina, Tennessee, Vermont, Virginia, Wisconsin, and West Virginia. | East Region: Connecticut, Delaware, District of Columbia, Florida, Georgia, Massachusetts, Maryland, Maine, New Hampshire, New Jersey, New York, North Carolina, Ohio, Pennsylvania, Rhode Island, South Carolina, Vermont, Virginia, and West Virginia.
| Midwest Region: Illinois, Indiana, Iowa, Kentucky, Michigan, Minnesota, Missouri, and Tennessee, and Wisconsin.
West Region: Arizona, California, Colorado, Idaho, Minnesota, Montana, Nevada, North Dakota, Oregon, South Dakota, Utah, Washington, and Wyoming. | Mountain Region: Arizona, Colorado, Idaho, Montana, Nebraska, New Mexico, Nevada, North Dakota, South Dakota, Utah, and Wyoming.
| Pacific Region: California, Oregon, and Washington.

• EIA is also proposing a new data element, inventory adjustments of working gas in storage, to better distinguish when adjustments to working gas inventories, such as reclassifications between working and base gas, occur. In most instances, this data element would not be applicable to the majority of respondents. However, when inventory adjustments do occur, they will most easily be discerned by being directly reported in a designated portion of the form instead of being listed in the comments section. As the primary use of the WNGSR's data is the net change in weekly inventory data, which serves as a proxy for natural gas flowing into and out of underground storage, clearer data on inventory adjustments that can obscure the nature of flows into and out of storage will be more easily distinguished and published.

• Finally, EIA is proposing two changes to its current Weekly Natural Gas Storage Report revision policy. The first proposed change would reduce the threshold for published revisions and reclassifications between working and base gas from 7 billion cubic feet (Bcf) to 4 Bcf. Under the proposed revision policy, revisions will be announced in the regularly scheduled release, when the sum of reported changes is at least 4 Bcf at either a regional or national level. Second, EIA is also proposing to amend the policy addressing the unscheduled release of revisions. Under the current policy, an unscheduled release of revised data will occur when the cumulative effect of respondent submitted data changes or corrections is at least 10 Bcf for the current or prior report week. Under the proposed policy, the unscheduled release of revisions to weekly estimates of working gas held in underground storage will occur when the cumulative sum of data changes or corrections to working gas and the net change between the two most recent report weeks is at least 10 Bcf. The proposed change leaves the 10-Bcf threshold, as well as the current out-of-cycle release procedures, intact but will further require that the revision have an impact of 10 Bcf or more on the reported net change between the two most recently reported weekly periods. For example, if one or more respondents submits changes totaling 10 Bcf to previously submitted data but the changes are the result of errors that have been accumulating over several weeks and do not affect flows of working natural gas into or out of storage in the most recent two reported weekly periods by more than 10 Bcf, the unscheduled data release will not occur and the revisions will be published with the next regularly scheduled release.

3. Estimated Number of Survey Respondents: There are approximately 85 respondents every week.

4. Annual Estimated Number of Total Responses: The annual estimated number of total responses is 4,420.

5. Annual Estimated Number of Burden Hours: The annual estimated burden is 4,420 hours.

6. Annual Estimated Reporting and Recordkeeping Cost Burden: Additional costs to respondents are not anticipated beyond costs associated with response burden hours.

Statutory Authority: Section 13(b) of the Federal Energy Administration Act of 1974, Public Law 93-275, codified at 15 U.S.C. 772(b).

Issued in Washington, DC, September 30, 2014.
Nanda Srinivasan,
Director of Survey Development and Statistical Integration, U. S. Energy Information Administration.

[FR Doc. 2014-23751 Filed 10-6-14; 8:45 am]

BILLING CODE 6450-01-P